DEPARTMENT OF AGRICULTURE

Animal and Plant Health Inspection Service

[Docket No. 03-085-1]

Notice of Request for Approval of an Information Collection

AGENCY: Animal and Plant Health Inspection Service, USDA.

ACTION: New information collection; comment request.

SUMMARY: In accordance with the Paperwork Reduction Act of 1995, this notice announces the Animal and Plant Health Inspection Service's intention to initiate a new information collection activity to support the National Nonambulatory Livestock Study.

DATES: We will consider all comments that we receive on or before December 29, 2003.

ADDRESSES: You may submit comments by postal mail/commercial delivery or by e-mail. If you use postal mail/commercial delivery, please send four copies of your comment (an original and three copies) to: Docket No. 03-085-1, Regulatory Analysis and Development, PPD, APHIS, Station 3C71, 4700 River Road Unit 118, Riverdale, MD 20737-1238. Please state that your comment refers to Docket No. 03-085-1. If you use e-mail, address your comment to regulations@aphis.usda.gov. Your comment must be contained in the body of your message; do not send attached files. Please include your name and address in your message and “Docket No. 03-085-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information on the National Nonambulatory Livestock Study, contact Mr. Chris Quatrano, Management Analyst, Centers for Epidemiology and Animal Health, VS, APHIS, 2150 Centre Avenue, Building B MS 2E6, Fort Collins, CO 80526-8117; (970) 494-7207. For copies of more detailed information on the information collection, contact Mrs. Celeste Sickles, APHIS’ Information Collection Coordinator, at (301) 734-7477.

SUPPLEMENTARY INFORMATION: Title: National Nonambulatory Livestock Study.

OMB Number: 0579-XXXX.

Type of Request: Approval of a new information collection.

Abstract: The United States Department of Agriculture (USDA) is responsible for protecting the health of our Nation's livestock and poultry populations by preventing the introduction and dissemination of any pest or disease of livestock and for eradicating such pests and diseases from the United States when feasible. In connection with this mission, the Centers for Epidemiology and Animal Health, Veterinary Services, Animal and Plant Health Inspection Service (APHIS), plans to initiate an information collection to gather data for the National Nonambulatory Livestock Study.

Section 10815 of the Farm Security and Rural Investment Act of 2002 requires the Secretary of Agriculture to investigate and submit a report to Congress on practices involving nonambulatory livestock. The objectives of the study include: (1) Assessing the scope of nonambulatory livestock; (2) identifying the causes that render livestock nonambulatory; (3) examining humane treatment practices for nonambulatory livestock; and (4) examining the extent to which nonambulatory livestock may present handling and disposition problems for stockyards, market agencies, and dealers.

Information from this study will be analyzed and organized into a final report for the Secretary of Agriculture and for Congress, highlighted in information sheets or descriptive reports to be disseminated by APHIS or USDA's National Agricultural Statistics Service, and used to optimize bovine spongiform encephalopathy surveillance. Participation in this study is voluntary, and all information is confidential.

We are asking the Office of Management and Budget (OMB) to approve these information collection activities for the National Nonambulatory Livestock Study.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 1.2145454 hours per response.

Respondents: Beef and dairy producers, livestock market operators/managers, and USDA's Food Safety and Inspection Service slaughter plant inspectors.

Estimated annual number of respondents: 4,375.

Estimated annual number of responses per respondent: 1.2571428.

Estimated annual number of responses: 5,500.

Estimated total annual burden on respondents: 6,680 hours. (Due to averaging, the total annual burden hours may not equal the product of the annual number of responses multiplied by the reporting burden per response.)

All responses to this notice will be summarized and included in the request for OMB approval. All comments will also become a matter of public record.

Done in Washington, DC, this 23rd day of October 2003.
Kevin Shea,
Acting Administrator, Animal and Plant Health Inspection Service.

[FR Doc. 03-27150 Filed 10-27-03; 8:45 am]

BILLING CODE 3410-34-P